DEPARTMENT OF AGRICULTURE

Forest Service

Fairfield Ranger District Sheep Allotment AMP EIS, Fairfield Ranger District, Elmore and Camas Counties, ID

AGENCY: Forest Service, USDA.

ACTION: Notice of intent to prepare environmental impact statement.

SUMMARY: The Forest Supervisor of the Sawtooth National Forest gives notice of the agency's intent to prepare an environmental impact statement on a proposal to update the allotment management plans for twelve sheep allotments on the Fairfield Ranger District. This will be done to determine the appropriate livestock management and associated actions, or management changes, needed to provide for recovery of Threatened, Endangered or Sensitive species and meet the requirements established through the Endangered Species Act consultation process. Currently, these grazing allotments have been determined to be “likely to adversely affect” the threatened Bull Trout.

The proposal includes the following sheep grazing allotments; North Fork Lime Creek, Kelley Creek, Beaver Creek, Boardman Creek, Salt/Bowns, Shake Creek, Big Water, Jumbo Mountain, Skeleton Creek, Bridge Creek, Bear Creek and Ross Fork Allotments.

The purpose and need for this proposal is a result of the U.S. Fish and Wildlife Service's (USFWS) determination that grazing activities on the Fairfield Ranger District were “likely to adversely” the threatened bull trout. Terms and conditions were issued by the USFWS in a biological opinion to mitigate these adverse effects. One of these required mitigation measures directs the Forest Service to analyze the scope of the effects of livestock grazing on the bull trout by the beginning of the 2001 grazing season.

The Forest Service invites comments and suggestions on the scope of the analysis to be included in the draft environmental impact statement (DEIS). In addition, the Forest Service gives notice that it is beginning a full environmental analysis and decision-making process for this proposal so that interested or affected people may know how they can participate in the environmental analysis and contribute to the final decision. The first step in the analysis process is “scoping”. A scoping paper is available by contacting the Fairfield Ranger District, Fairfield, Idaho 83327 (208) 764-3202. This paper provides a map identifying the general area affected by this proposal, details regarding the analysis and decision-making process, primary issues identified to date, current Forest Plan management direction for this area, potential alternatives identified to date and general information about the area and current management. The Forest Service welcomes any public comments on this proposal.

DATES: Comments concerning the scope of this analysis should be received in writing no later than October 6, 2000.

ADDRESSES: Send written comments to Gary Fullmer, District Ranger, Fairfield Ranger District, Fairfield, Idaho 83327.

FOR FURTHER INFORMATION CONTACT: Terry Fletcher, Interdisciplinary Team Leader, Sawtooth National Forest, 2647 Kimberly Road East, Twin Falls, ID 83301 (208) 737-3200.

SUPPLEMENTARY INFORMATION: In June 1998, bull trout were listed as a “threatened species” under the Endangered Species Act. In August 1998, a Biological Assessment was completed for all grazing allotments on the District. The Biological Opinion (B.O.) issued by the U.S. Fish & Wildlife Service in March 1999 directed that grazing allotment plans be completed by the start of the 2001 grazing season. A primary requirement of the B.O. is that “livestock shall not occupy the allotments, pastures or areas with confirmed bull trout spawning and juvenile rearing after August 15th. The preceding factors, and to insure compliance with Forest Plan Standards and Guidelines, necessitate the development of this environmental impact statement.

The decision to be made is the determination of the appropriate livestock management and associated actions or management changes needed on the twelve sheep allotments to provide for the recovery of threatened, endangered and sensitive species and meet the requirements established through the Endangered Species Act for consultation for bull trout.

RESPONSIBLE OFFICIAL: Bill LeVere, Forest Supervisor, Sawtooth National Forest, 2647 Kimberly Road East, Twin Falls, ID 83301.

The draft environmental impact statement is expected to be published in March 2001. There will be a 45-day public review and comment on the draft. The 45-day public comment period on the DEIS will commence on the day the Environmental Protection Agency publishes a “Notice of Availability” in the Federal Register. The final environmental impact statement and decision is expected to be completed in May 2001 in order that the obligations made in the biological opinion can be met.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points.) Please note that comments you make on the draft environmental impact statement will be regarded as public information.

Bill Levere,
Forest Supervisor.

[FR Doc. 00-22434 Filed 8-31-00; 8:45 am]

BILLING CODE 3410-11-M